DEPARTMENT OF AGRICULTURE

Food and Nutrition Service

Agency Information Collection Activities: Proposed Collection: Comment Request: Food Stamp Program Education and Administrative Reporting System (EARS)

AGENCY: Food and Nutrition Service, USDA.

ACTION: Notice.

SUMMARY: In accordance with the Paperwork Reduction Act of 1995, this notice invites the general public and other public agencies to comment on a proposed information collection. The proposed collection is a new collection.

The purpose of the Education and Administrative Reporting System (EARS) form is to collect uniform and standard information on nutrition education activities funded by the Food Stamp Program. The data collected will inform management decisions, support policy initiatives, and provide documentation for legislative, budget and other requests that support planning within the agency.

DATES: Written comments must be submitted on or before September 11, 2006.

ADDRESSES: Comments are invited on: (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including through the use of appropriate automated, electronic, mechanical, or other technological collection techniques or other forms of information technology.

Comments may be sent to Judy Wilson, Director, Nutrition Services Staff, Office of Analysis, Nutrition and Evaluation, U.S. Department of Agriculture, Food and Nutrition Service, 3101 Park Center Drive, Room 1014, Alexandria, VA 22302.

All responses to this notice will be summarized and included in the request for the Office of Management and Budget (OMB) approval. All comments will also be a matter of public record.

FOR FURTHER INFORMATION CONTACT: Requests for additional information or copies of the proposed information collection form and instructions should be directed to Judy Wilson at (703) 305-2585.

SUPPLEMENTARY INFORMATION: Title: Education and Administrative Reporting System.

OMB Number: Not assigned at this time.

Form Number: FNS-759.

Expiration Date: None.

Type of Request: New collection.

Abstract: The Food and Nutrition Service (FNS) has developed a new reporting system for the nutrition education component of the Food Stamp Program, which is provided for in section 11(f) of the Food Stamp Act, 7 U.S.C. 2020(f). To do this, the Agency convened a workgroup of diverse stakeholders that assisted with this task, including people from the State, local, and Federal levels, as well as academia.

The new Education and Administrative Reporting System (EARS) will provide uniform data and information about the nutrition education activities of all participating States across the country. Data collected under the new system include demographic characteristics of participants receiving nutrition education benefits, information about education topics and strategies, and use of resources. The EARS has been designed to be an annual report that State Food Stamp Program Agencies will submit to report prior Fiscal Year's nutrition education activities.

Affected Public: State Food Stamp Program Agencies, implementing partners such as extension universities and non-profit organizations and local program operators.

Estimated Number of Respondents: 52.

Number of Responses per Respondent: 1.

Estimated Total Annual Responses: 52.

Hours per Response: 54.

Total Annual Reporting Hours: 2808.

Total Annual Burden Hours: 2808.

Dated: July 6, 2006.
Roberto Salazar,
Administrator.

[FR Doc. E6-11033 Filed 7-12-06; 8:45 am]

BILLING CODE 3410-30-P